FEDERAL COMMUNICATIONS COMMISSION

[DA 15-1160]

Notice of Debarment; Federal Lifeline Universal Service Support Mechanism

AGENCY: Federal Communications Commission.

ACTION: Notice.

SUMMARY: The Enforcement Bureau (Bureau) gives notice of Icon Telecom, Inc.'s (Icon) debarment from the federal Lifeline universal service support mechanism (Lifeline program) for a period of three years. During this debarment period, Icon is prohibited from participating in activities associated with or related to the Lifeline program, including the receipt of funds or discounted services through the Lifeline program, or consulting with, assisting, or advising applicants or service providers regarding the Lifeline program.

DATES: Debarment commences on the date Icon receives the debarment letter or November 12, 2015, whichever comes first, for a period of three years.

FOR FURTHER INFORMATION CONTACT: Celia Lewis, Paralegal Specialist, Federal Communications Commission, Enforcement Bureau, Investigations and Hearings Division, Room 4-A422, 445 12th Street SW., Washington, DC 20554. Celia Lewis may be contacted by phone at (202) 418-7456 or email at Celia.Lewis@fcc.gov. If Ms. Lewis is unavailable, you may contact Mr. Kalun Lee, Deputy Chief, Investigations and Hearings Division, by telephone at (202) 418-0796 and by email at Kalun.Lee@fcc.gov.

SUPPLEMENTARY INFORMATION: The Bureau debars Icon for a period of three years pursuant to 47 CFR 54.8 and 0.111(a)(14). Icon's conviction for making a false statement in violation of 18 U.S.C. 1002(a)(2), in connection with fraudulent claims against the Lifeline program is the basis for this debarment. Attached is the Notice of Debarment, DA 15-1160, which was mailed to Icon and released on October 13, 2015. The complete text of the Notice of Debarment is available for public inspection and copying during regular business hours at the FCC Reference Information Center, Portal II, 445 12th Street SW., Room CY-A257, Washington, DC 20554. In addition, the complete text is available on the FCC's Web site at http://www.fcc.gov.

Federal Communications Commission.
Jeffrey J. Gee,
Chief, Investigations and Hearings Division, Enforcement Bureau.

October 13, 2015

DA 15-1160

SENT VIA CERTIFIED MAIL, RETURN RECEIPT REQUESTED

Mr. Wes Yui Chew

President

Icon Telecom, Inc.

c/o Daniel G. Webber, Jr.

Ryan Whaley Coldiron Shandy PLLC

119 N. Robinson Avenue, Suite 900

Oklahoma City, OK 73102

Re: Notice of Debarment, File No. EB-IHD-15-00019108

Dear Mr. Chew:

The Federal Communications Commission (Commission) hereby notifies Icon Telecom, Inc. (Icon) that, pursuant to section 54.8 of the Commission's rules, Icon is prohibited from participating in activities associated with or related to the federal low-income support mechanism (Lifeline program) for three years from either the date of Icon's receipt of this Notice of Debarment or of its publication in the Federal Register, whichever comes first (Debarment Date).¹

¹ 47 CFR 54.8 (e) and (g); 47 CFR 0.111 (delegating to the Bureau authority to resolve universal service suspension and debarment proceedings). In 2007, the Commission extended the debarment rules to apply to all federal universal service support mechanisms, including the Lifeline program. See Comprehensive Review of the Universal Service Fund Management, Administration, & Oversight, Report and Order, 22 FCC Rcd 16372, 16410-12 (2007) (Program Management Order) (renumbering section 54.521 of the universal service debarment rules as section 54.8 and amending paragraphs (a)(1), (a)(5), (c), (d), (e)(2)(i), (e)(3), (e)(4), and (g)).

On May 26, 2015, the Commission's Enforcement Bureau (Bureau) sent Icon a notice of suspension and initiation of debarment proceeding (Notice of Suspension) that was published in the Federal Register on July 9, 2015.² The Notice of Suspension suspended Icon from participating in any activities associated with or related to the Lifeline program, including receiving funds or discounted services through the Lifeline program, or consulting with, assisting, or advising applicants or service providers regarding the Lifeline program.³ It also described the basis for initiating the debarment proceeding against Icon, the applicable debarment procedures, and the effect of debarment.

² Letter from Jeffrey J. Gee, Chief, Investigations and Hearings Division, FCC Enforcement Bureau, to Wes Yui Chew, President, Icon Telecom, Inc., notice of suspension and initiation of debarment proceeding, 30 FCC Rcd 4993 (Enf. Bur. 2015); 80 FR 39429-01 (July 9, 2015).

³ 47 CFR 54.8(a)(1) and (d).

As discussed in the Notice of Suspension, on June 12, 2014, Icon was convicted of making a false statement in violation of 18 U.S.C. 1002(a)(2), in connection with fraudulent claims against the federal Lifeline telephone program (Lifeline program).⁴ Icon participated in the Lifeline program from July 2011 until September 2013.⁵ Specifically, Icon pled guilty to knowingly making a false statement to the Universal Service Administrative Company ⁶ through its submission of 58 fabricated customer recertification forms, which included fictitious signatures, in response to an audit request.⁷ Pursuant to section 54.8(c) of the Commission's rules, Icon's conviction of criminal conduct in connection with the Lifeline program is the basis for this debarment.⁸

⁴ Any further reference in this letter to “your conviction” refers to your guilty plea and subsequent sentencing in United States v. Icon Telecom, Criminal Docket No. 5:14-cr-00170-D, Plea Agreement (W.D. Okla. filed June 12, 2014) (Plea Agreement). See also Lifeline & Link Up Reform & Modernization, WC Docket No. 11-42, CC Docket No. 96-45, WC Docket No. 03-109, Report and Order and Further Notice of Proposed Rulemaking, 27 FCC Rcd 6656 (2012) (Lifeline Reform Order).

⁵ United States v. Icon Telecom, Criminal Docket No. 5:14-cr-00170-D, Information at 4 (W.D. Okla. filed June 3, 2014) (Information).

⁶ The Universal Service Administrative Company (USAC) is an independent, not-for-profit corporation designated by the Commission as the administrator of the Lifeline program. See About USAC, http://www.usac.org/about/.

⁷ Information at 8; Plea Agreement at 2; see also United States Attorney's Office, Western District of Oklahoma, Press Release, Icon Telecom and Its Owner Plead Guilty And Agree To Forfeit More Than $27 Million In Connection With Federal Wireless Telephone Subsidy Program, June 12, 2014, available at http://www.justice.gov/usao-wdok/pr/icon-telecom-and-its-owner-plead-guilty-and-agree-forfeit-more-27-million-connection.

⁸ 47 CFR 54.8(c).

In accordance with the Commission's debarment rules, Icon was required to file with the Commission any opposition to the suspension or its scope, or to the proposed debarment or its scope, no later than 30 calendar days from either the date of Icon's receipt of the Notice of Suspension or of its publication in the Federal Register, whichever date occurred first.⁹ The Commission received no opposition from Icon.¹⁰

⁹ Id. § 54.8 (e)(3) through (4). Any opposition had to be filed no later than July 15, 2015.

¹⁰ On May 27, 2015, Icon responded to the Notice of Suspension stating that it had relinquished its eligible telecommunications carrier (ETC) designation in September of 2013. See Email from George M. Makohin, Counsel for Icon Telecom, Inc., to Celia Lewis, Paralegal Specialist, Investigations and Hearings Division, FCC Enforcement Bureau (May 27, 2015, 16:32 EDT). Icon did not oppose its suspension from the Lifeline program or the Commission's debarment proceeding against the company. Id.

For the foregoing reasons, Icon is debarred from involvement with the Lifeline program for three years from the Debarment Date.¹¹ During this debarment period, Icon is excluded from participating in any activities associated with or related to the Lifeline program, including the receipt of funds or discounted services through the Lifeline program, or consulting with, assisting, or advising applicants or service providers regarding the Lifeline program.¹²

¹¹ 47 CFR 54.8(g).

¹² 47 CFR 54.8(a)(1), (d), and (g).

Sincerely yours,

Jeffrey J. Gee

Chief, Investigations and Hearings Division, Enforcement Bureau

cc: Johnnay Schrieber, Universal Service Administrative Company (via email)

Rashann Duvall, Universal Service Administrative Company (via email)

Chris M. Stevens, United States Attorney's Office, Western District of Oklahoma (via email)

Scott E. Williams, United States Attorney's Office, Western District of Oklahoma (via email)

[FR Doc. 2015-28736 Filed 11-10-15; 8:45 am]

BILLING CODE 6712-01-P